DEPARTMENT OF THE INTERIOR

Geological Survey

[USGS-GX12GG00995NP00]

National Earthquake Prediction Evaluation Council (NEPEC)

AGENCY: Department of the Interior, U.S. Geological Survey.

ACTION: Notice of meeting.

SUMMARY: Pursuant to Public Law 96-472, the National Earthquake Prediction Evaluation Council (NEPEC) will hold a 1½ day meeting on September 17 and 18, 2012, at the U.S. Geological Survey National Earthquake Information Center (NEIC), 1711 Illinois Avenue, Golden, Colorado 80401. The Council is comprised of members from academia and the Federal Government. The Council shall advise the Director of the U.S. Geological Survey on earthquake predictions, on the completeness and scientific validity of the available data related to earthquake predictions, and on related matters as assigned by the Director. Additional information about the Council may be found at http://earthquake.usgs.gov/aboutus/nepec/.

At the meeting, the Council will receive briefings on: ongoing and planned work with social and behavioral scientists on improving hazard and risk messages; development of a strategic plan for operational earthquake forecasting including calculation of short-term aftershock probabilities; discussions with emergency managers and other decision-makers about their needs for earthquake information, scientific evaluations, and hazard and risk forecasts; status of the project intended to deliver an updated Uniform California Earthquake Rupture Forecast (UCERF3); and on the delivery of near-real-time earthquake information by the NEIC.

A draft meeting agenda is available from the Executive Secretary on request (contact information below), and will be posted to the web site (above) when finalized. In order to ensure sufficient seating and hand-outs, it is requested that visitors pre-register by September 13, 2012. Members of the public wishing to make a statement to the Council should provide notice of that intention by September 13 so that time may be allotted in the agenda.

DATES: The meeting will be held at the USGS National Earthquake Information Center on the campus of the Colorado School of Mines, 1711 Illinois Avenue, in Golden, Colorado 80401. The meeting will commence in the early afternoon of Monday, September 17, 2012, and continue the following day, beginning at 9 a.m. and adjourning at 4 p.m. Times are approximate. Guests are encouraged to contact the Executive Secretary for a copy of the agenda and instructions for parking and locating the meeting room.

Contact: Dr. Michael Blanpied, Executive Secretary, National Earthquake Prediction Evaluation Council, U.S. Geological Survey, MS 905, 12201 Sunrise Valley Drive, Reston, Virginia 20192, (703) 648-6696, Email: mblanpied@usgs.gov.

Dated: August 28, 2012.
David J. Newman,
USGS Federal Register Liaison.

[FR Doc. 2012-21602 Filed 8-30-12; 8:45 am]

BILLING CODE 4311-AM-P